Federal Accounting Standards Advisory Board

Notice of Appointment of New FASAB Member

AGENCY: Federal Accounting Standards Advisory Board.

ACTION: Notice.

Board Action: Pursuant to 31 U.S.C. 3511(d), the Federal Advisory Committee Act (Pub. L. 92-463), as amended, and the FASAB Rules Of Procedure, as amended in October 2010, notice is hereby given that Mr. Sam McCall has been appointed to a five-year term as a member of the Federal Accounting Standards Advisory Board (FASAB) beginning January 1, 2012. Mr. McCall has over forty years of experience in governmental auditing. He has served as deputy state auditor for the state of Florida and is presently the city auditor in Tallahassee, Florida.

For Further Information Regarding Mr. McCall, Contact: Ms. Wendy M. Payne, Executive Director, 441 G St. NW., Mail Stop 6K17V, Washington, DC 20548, or call (202) 512-7350.

Authority: Federal Advisory Committee Act, Pub. L. 92-463.

Dated: December 1, 2011.
Charles Jackson,
Federal Register Liaison Officer.

[FR Doc. 2011-31249 Filed 12-5-11; 8:45 am]

BILLING CODE 1610-02-P